DEPARTMENT OF ENERGY

Federal Energy Regulatory Commission

Notice of Application for Amendment of License and Soliciting Comments, Motions To Intervene, and Protests

March 30, 2007.

Take notice that the following application has been filed with the Commission and is available for public inspection:

a. Application Type: Non-project Use of Project Lands and Waters.

b. Project No: 2503-113.

c. Date Filed: March 19, 2007.

d. Applicant: Duke Energy Carolinas, LLC.

e. Name of Project: Keowee-Toxaway Project (Keowee Development).

f. Location: Lake Keowee is located in Pickens and Oconee County, South Carolina. This project does not occupy any tribal or federal lands.

g. Filed Pursuant to: Federal Power Act, 16 U.S.C. § § 791(a) 825(r) and § § 799 and 801.

h. Applicant Contact: Mr. Joe Hall, Manager Lake Service; Duke Energy Carolinas, LLC; P.O. Box 1006; Charlotte, NC; 28201-1006; 704-382-8576.

i. FERC Contact: Any questions on this notice should be addressed to Jon Cofrancesco at (202) 502-8951 or by e-mail: Jon.Cofrancesco@ferc.gov.

j. Deadline for filing comments and or motions: April 30, 2007.

All documents (original and eight copies) should be filed with: The Secretary, Federal Energy Regulatory Commission, 888 First Street, NE., Washington DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Application: Duke Energy Carolinas, LLC (Duke), licensee for the Keowee-Toxaway Hydroelectric Project, has filed an application seeking authorization from the Federal Energy Regulatory Commission to lease to The Reserve at Lake Keowee (The Reserve), 10.77 acres of project lands located on Lake Keowee in Pickens County, South Carolina for access to the reservoir and the development of certain facilities that would serve the residents of The Reserve.

The Reserve proposes to develop Commercial/Residential and Commercial/Non-residential marina facilities at the site, consisting of 23 cluster docks with a total of 304 boat dock locations, an irrigation pump that would withdraw up to 2 million gallons of water a day from the lake, a docking location for fuel pumping and sewer pumpout facilities, and a dry stack storage facility that can accommodate up to 624 boats and includes a boat launching pier. The proposal would also involve dredging of 6,300 cubic yards of material, the use of a ferry to provide water access for property owners and golf carts to various locations on Lake Keowee (the ferry will not be moored at the site), and implementation of a mitigation plan to address existing encroachments of the golf course on project lands. The planned mitigation requires The Reserve to make various improvements to the project's Crow Creek Public Access Area and to provide ongoing maintenance of the area.

l. Location of the Application: This filing is available for review at the Commission or may be viewed on the Commission's Web site at http://www.ferc.gov, using the “eLibrary” link. Enter the docket number excluding the last three digits in the docket number field to access the document. You may also register online at http://www.ferc.gov/docs-filing/esubscription.asp to be notified via e-mail of new filings and issuances related to this or other pending projects. For assistance, contact FERC Online Support at FERCOnlineSupport@ferc.gov or toll-free at (866) 208-3676, or for TTY, contact (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “PROTEST”, OR “MOTION TO INTERVENE”, as applicable, and the Project Number of the particular application to which the filing refers. A copy of any motion to intervene must also be served upon each representative of the Applicant specified in the particular application.

p. Agency Comments—Federal, state, and local agencies are invited to file comments on the application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Philis J. Posey,
Acting Secretary.

[FR Doc. E7-6326 Filed 4-4-07; 8:45 am]

BILLING CODE 6717-01-P